DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and who have been removed from the list of Specially Designated Nationals and Blocked Persons.

DATES: See Supplementary Information section for applicable date(s).

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On December 16, 2022, OFAC determined that the property and interests in property subject to U.S. jurisdiction of the following persons are unblocked and they have been removed from the SDN List.

Individuals

1. BALDENEGRO BASTIDAS, Manuel Dario, c/o AGRICOLA GAXIOLA S.A. DE C.V., Hermosillo, Sonora, Mexico; DOB 11 Jan 1963; POB Hermosillo, Sonora, Mexico; alt. POB Distrito Federal, Mexico, Mexico; nationality Mexico; citizen Mexico; Passport 260000406 (Mexico); C.U.R.P. BABM630111HSLLSN16 (Mexico); alt. C.U.R.P. BABM630111HSLLSN08 (Mexico) (individual) [SDNTK].

2. BEDOYA LOPEZ, Gildardo de Jesus; DOB 18 Dec 1963; POB Abejorral, Antioquia, Colombia; citizen Colombia; Cedula No. 70560012 (Colombia) (individual) [SDNTK] (Linked To: REPRESENTACIONES MIDAS; Linked To: GARCES Y BEDOYA CIA. LTDA).

3. HERNANDEZ DURANGO, Wilton Cesar, Medellin, Colombia; DOB 10 Dec 1974; POB Medellin, Antioquia, Colombia; citizen Colombia; Gender Male; Cedula No. 70326525 (Colombia) (individual) [SDNTK] (Linked To: EUROMECANICA).

4. HUERTA RAMOS, Manuel (a.k.a. HUERTA RAMOS, Jesus Manuel), c/o SERVICIO AEREO LEO LOPEZ, S.A. DE C.V., Chihuahua, Chihuahua, Mexico; Sabino #804, Chihuahua, Chihuahua 31160, Mexico; DOB 26 Jun 1960; POB Juarez, Chihuahua, Mexico; nationality Mexico; citizen Mexico; C.U.R.P. HURJ600626HCHRMS03 (Mexico) (individual) [SDNTK].

5. MEJIA ALZATE, Victor Gabriel; DOB 05 Oct 1985; POB Medellin, Colombia; citizen Colombia; Cedula No. 98772126 (Colombia) (individual) [SDNTK] (Linked To: CANTERAS COPACABANA S.A.; Linked To: PROMOTORA TURISTICA SOL PLAZA S.A.; Linked To: TRITCON S.A.S.).

6. MEJIA SALAZAR, Pedro Claver; DOB 19 May 1943; POB Granada, Antioquia, Colombia; citizen Colombia; Cedula No. 3606361 (Colombia) (individual) [SDNTK] (Linked To: ARENERA EL CERREJON; Linked To: PROMOTORA TURISTICA SOL PLAZA S.A.; Linked To: INVERSIONES MEYBAR S.A.S.; Linked To: MEJIA ALZATE ASOCIADOS Y CIA. LTDA.).

Entities

1. ALMEQUIP S.A.S., Circular 73B No. 39B 115 Of. 9901, Medellin, Colombia; NIT # 900314383-9 (Colombia) [SDNTK].

2. ARENERA EL CERREJON, Km. 2 via Aguadas, Aguadas, Caldas, Colombia; Matricula Mercantil No 121398 (Manizales) [SDNTK].

3. CANTERAS COPACABANA S.A. (a.k.a. TRAMCO S.A.), Circular 73B No. 39B 15 Of. 9901, Medellin, Colombia; NIT # 811035366-3 (Colombia) [SDNTK].

4. EUROMECANICA, Calle 44 74 83, Medellin, Antioquia, Colombia; Matricula Mercantil No 21-573208-02 (Medellin) [SDNTK].

5. GARCES Y BEDOYA CIA. LTDA, Carrera 50 No. 37-35, Medellin, Colombia; NIT # 800119082-9 (Colombia) [SDNTK].

6. INVERSIONES MEYBAR S.A.S., Calle 48 No. 53-62 Int. 902, Medellin, Colombia; NIT # 811004754-5 (Colombia) [SDNTK].

7. MEJIA ALZATE ASOCIADOS Y CIA. LTDA., Circular 73B 39 115-106, Copacabana, Antioquia, Colombia; Medellin, Colombia; NIT # 800246606-1 (Colombia) [SDNTK].

8. PROMOTORA TURISTICA SOL PLAZA S.A. (a.k.a. HOTEL SOL PLAZA), Circular 73B No. 39B 115 Of. 9901, Medellin, Colombia; Carrera 32 No. 35B 44, La Pintada, Antioquia, Colombia; NIT # 811035697-6 (Colombia); Matricula Mercantil No 30401904 (Medellin); alt. Matricula Mercantil No 37062402 (Medellin) [SDNTK].

9. REPRESENTACIONES MIDAS, Plaza Envigado, Local 89, Envigado, Antioquia, Colombia; Calle 40 Sur No. 40 20, Envigado, Antioquia, Colombia; Matricula Mercantil No 54512 (Aburra Sur) [SDNTK].

10. TRITCON S.A.S., Circular 73B 39B 115 Of. 9901, Medellin, Colombia; NIT # 900315365-0 (Colombia) [SDNTK].

Dated: December 19, 2022.
Gregory T. Gatjanis,
Associate Director, Office of Foreign Assets Control, U.S. Department of the Treasury.

[FR Doc. 2022-27892 Filed 12-21-22; 8:45 am]

BILLING CODE 4810-AL-P